DEPARTMENT OF DEFENSE

Department of the Navy

Notice of Availability of the Draft Environmental Impact Statement for the Disposal and Reuse of Naval Air Station Joint Reserve Base Willow Grove, Horsham, Pennsylvania, and To Announce Public Meetings

AGENCY: Department of the Navy, DoD.

ACTION: Notice.

SUMMARY: Pursuant to the National Environmental Policy Act (NEPA) of 1969 (Pub. L. 91-190, 42 United States Code [U.S.C.] 4321-4370f), as implemented by the Council on Environmental Quality Regulations (40 Code of Federal Regulations (CFR) Parts 1500-1508), the Department of the Navy (DoN) has prepared and filed the Draft Environmental Impact Statement (EIS) to evaluate the potential environmental consequences associated with the disposal of Naval Air Station Joint Reserve Base (NAS JRB) Willow Grove, Horsham, Pennsylvania, and its subsequent reuse by the local redevelopment authority. On September 15, 2011, the installation officially closed, as required by Public Law 101-510, the Defense Base Closure and Realignment Act of 1990, as amended in 2005. Public meetings will be held in an open house format to provide information and receive oral and written comments on the Draft EIS. Federal, state, and local agencies and interested individuals are invited to be present or represented at the meetings.

Dates and Addresses: The DoN is initiating a public comment period to provide the community an opportunity to comment on the Draft EIS. Federal, state, and local elected officials and agencies and the public are encouraged to provide written or oral comments at two scheduled open house public meetings to be held at the Horsham Township Community Center, located at 1025 Horsham Road in Horsham Township, Pennsylvania. The public meetings are scheduled as follows:

Monday, January 13, 2014 (5:00 p.m. to 8:00 p.m.)

Tuesday, January 14, 2014 (11:00 a.m. to 2:00 p.m.)

FOR FURTHER INFORMATION CONTACT: Director, BRAC Program Management Office East, 4911 South Broad Street, Building 679, Philadelphia, PA 19112-1303, telephone: 215-897-4900, fax: 215-897-4902, email: gregory.preston@navy.mil.

SUPPLEMENTARY INFORMATION: The DoN has prepared the Draft EIS for the Disposal and Reuse of NAS JRB Willow Grove, Horsham, Pennsylvania, in accordance with the requirements of NEPA (42 U.S.C. 4321-4345) and its implementing regulations (40 CFR Parts 1500-1508). A Notice of Intent (NOI) for this Draft EIS was published in the Federal Register on November 23, 2012 (Federal Register, Vol. 77, No. 226/Friday, November 23, 2012/Notices). The DoN is the lead agency for the proposed action. The purpose of the proposed action is the disposal of NAS JRB Willow Grove from federal ownership and its subsequent reuse in a manner consistent with the NAS JRB Willow Grove Redevelopment Plan as developed by the Horsham Township Authority in March 2012. NAS JRB Willow Grove was officially closed on September 15, 2011, as required by Public Law 101-510, the Defense Base Closure and Realignment Act of 1990, as amended in 2005 (the BRAC Law). The BRAC Law exempts the decision-making process of the BRAC Commission from the provisions of NEPA. The Law also relieves the Department of Defense (DoD) from the NEPA requirements to consider the need for closing, realigning, or transferring functions and from looking at alternative installations to close or realign. However, in accordance with NEPA, before disposing of any real property, the DoN must analyze the environmental effects of the disposal of the property. This Draft EIS has identified and considered three redevelopment alternatives for the disposal and reuse of NAS JRB Willow Grove. The No Action Alternative was also considered, as required by NEPA and to provide a point of comparison for assessing impacts of the redevelopment alternatives.

Alternative 1 includes the disposal of the former NAS JRB Willow Grove by the DoN and its reuse in a manner consistent with the NAS JRB Willow Grove Redevelopment Plan. This alternative has been identified as the Preferred Alternative by the DoN. Full build-out of the Redevelopment Plan would be implemented over a 20-year period. The plan calls for redevelopment of most of the former installation property and includes a mix of land use types and densities, as well as open space and natural areas. The airfield and most installation facilities would be demolished. The Redevelopment Plan incorporates mixed-use, pedestrian-oriented features (e.g., a town center, walkable neighborhoods, and bike lanes), open spaces, best management practices for stormwater management, and green and sustainable design principles. The redevelopment would make available approximately 2.3 million square feet of non-residential building space and a mix of 1,486 residential housing units.

Alternative 2 provides for the disposal of the former installation property by the DoN but has a higher density of residential development than under Alternative 1 and a similar level of mixed-use development. As with Alternative 1, the airfield and most installation facilities would be demolished. This alternative includes a mix of land use types, open space, and natural areas and incorporates smart-growth principles that include pedestrian-friendly transportation and compact development. Full build-out is proposed to be implemented over a 20-year period. This alternative calls for approximately 2.1 million square feet of non-residential building space and a mix of 1,999 residential housing units.

Alternative 3 would maintain the existing runway and a portion of the taxiways, parking aprons, and hangar space for airfield operations. After accounting for the area taken up by critical airfield/air operation elements (approximately 350 acres) and the areas that provide open space surrounding the airfield due to safety setbacks associated with the airfield (approximately 300 acres), the remaining land available for redevelopment would be approximately 210 acres. The layout of Alternative 3 incorporates the approximate sizes and locations of several elements from the Preferred Alternative (Alternative 1), such as the recreation center, aviation museum, and golf course. However, due to the land use constraints imposed by inclusion of the airfield, this option excludes a majority of residential development land uses within the former installation property, including a town center.

The No Action Alternative is also analyzed in the Draft EIS, as required by NEPA. Under this alternative, NAS JRB Willow Grove would be retained by the U.S. government in caretaker status. No reuse or redevelopment would occur at the facility.

The Draft EIS addresses potential environmental impacts under each alternative associated with: Land use, socioeconomics and environmental justice, community services, transportation, environmental management, air quality, noise, infrastructure and utilities, cultural resources, topography, geology, soils, water resources, vegetation, and wildlife. The analyses include direct and indirect impacts, and accounts for cumulative impacts from other foreseeable federal, state, or local activities at and around the former NAS JRB Willow Grove property. The DoN conducted the scoping process to identify community concerns and local issues that should be addressed in the EIS. The DoN considered the comments provided, which identified specific issues or topics of environmental concern, in determining the scope of the EIS. The Draft EIS has been distributed to various federal, state, and local agencies, as well as other interested individuals and organizations. In addition, copies of the Draft EIS have been distributed to the following libraries and publicly accessible facilities for public review: Horsham Township Library, 435 Babylon Road, Horsham, Pennsylvania, 19044-1224.

An electronic copy of the Draft EIS is available for public viewing at http://www.willowgroveeis.com. Federal, state, and local agencies, as well as other interested parties, are invited and encouraged to be present or represented at the public meetings.

Comments can be made in the following ways: (1) Written statements can be submitted to a DoN representative at the public meetings; (2) spoken comments can be provided to and recorded by a court reporter who will be present at the public meeting; (3) written comments can be mailed to 4911 South Broad Street, Building 679, Philadelphia, PA 19112-1303, Attn: Willow Grove EIS; (4) comments can be emailed to gregory.preston@navy.mil; or (5) comments can be faxed to 215-897-4902, Attn: Willow Grove EIS. Comments may be submitted without attending the public meetings. Equal weight will be given to oral and written statements. All comments postmarked or emailed no later than midnight February 10, 2014, will become part of the public record and will be responded to in the Final EIS.

Requests for special assistance, sign language interpretation for the hearing impaired, language interpreters, or other auxiliary aids for the scheduled public meetings must be sent by mail or email to Mr. Matthew Butwin, Ecology and Environment, Inc., 368 Pleasant View Drive, Lancaster, NY 14086, telephone: 716-684-8060, email: mbutwin@ene.com no later than January 6, 2014.

Dated: December 17, 2013.
N.A. Hagerty-Ford,
Commander, Office of the Judge Advocate General, U.S. Navy, Federal Register Liaison Officer.

[FR Doc. 2013-30505 Filed 12-20-13; 8:45 am]

BILLING CODE 3810-FF-P